DEPARTMENT OF ENERGY

Federal Energy Regulatory Commission

[Docket No. ER01-136-001, et al.]

Dynegy Midwest Generation, Inc., et al.; Electric Rate and Corporate Regulation Filings

December 4, 2000.

Take notice that the following filings have been made with the Commission:

1. Dynegy Midwest Generation, Inc.

[Docket No. ER01-136-001]

Take notice that on November 29, 2000, Dynegy Midwest Generation, Inc. (DMG) submitted a filing containing designations pursuant to Order No. 614, in compliance with the letter order issued November 16, 2000 in Docket No. ER01-136-000 in which the Commission accepted the filing, effective January 1, 2001.

Comment date: December 20, 2000, in accordance with Standard Paragraph E at the end of this notice.

2. Allegheny Energy Supply Company, LLC; The Potomac Edison Company, West Penn; Power Company (dba Allegheny Power)

[Docket No. ER01-432-001]

Take notice that on November 29, 2000, Allegheny Energy Supply Company, LLC (Allegheny Energy Supply), filed Amendment No. 1 to First Revised Rate Schedule FERC No. 3. Amendment No. 1 redesignates the cover page and Table of Contents to comply with the Commission's Order No. 614 and corrects page numbers shown on Sheet No. 3.

Copies of the filing have been provided to the Public Utilities Commission of Ohio, the Pennsylvania Public Utility Commission, the Maryland Public Service Commission, the Virginia State Corporation Commission, the West Virginia Public Service Commission and all parties of record.

Comment date: December 20, 2000, in accordance with Standard Paragraph E at the end of this notice.

3. Ohio Valley Electric Corporation; Indiana-Kentucky Electric Corporation

[Docket No. ER01-517-000]

Take notice that on November 28, 2000, Ohio Valley Electric Corporation (including its wholly-owned subsidiary, Indiana-Kentucky Electric Corporation) (OVEC) tendered for filing a Service Agreement for Non-Firm Point-To-Point Transmission Service, dated October 31, 2000 (the Service Agreement) between The Energy Authority, Inc. (Energy Authority) and OVEC.

OVEC proposes an effective date of October 31, 2000 and requests waiver of the Commission's notice requirement to allow the requested effective date. The Service Agreement provides for non-firm transmission service by OVEC to Energy Authority. In its filing, OVEC states that the rates and charges included in the Service Agreement are the rates and charges set forth in OVEC's Open Access Transmission Tariff.

A copy of this filing was served upon Energy Authority.

Comment date: December 19, 2000, in accordance with Standard Paragraph E at the end of this notice.

4. Boston Edison Company

[Docket No. ER01-523-000]

Take notice that on November 29, 2000, Boston Edison Company (Boston Edison) tendered for filing an Interconnection Agreement between Sithe Fore River Development LLC and Boston Edison. Boston Edison has requested waiver of the Commission's regulations to permit an effective date of December 31, 2000 of the Interconnection Agreement, and that the public comment period for this proceeding to end December 25, 2000.

Comment date: December 20, 2000, in accordance with Standard Paragraph E at the end of this notice.

5. PacifiCorp

[Docket No. ER01-524-000]

Take notice that on November 29, 2000, PacifiCorp tendered for filing in accordance with 18 CFR Part 35 of the Commission's Rules and Regulations, a Notice of Filing, and Mutual Netting/Closeout Agreements (Netting Agreements) with Tenaska Power Services Co. (TNSK) and Merrill Lynch Capital Services (MLCS).

Copies of this filing were supplied to the Washington Utilities and Transportation Commission and the Public Utility Commission of Oregon.

Comment date: December 20, 2000, in accordance with Standard Paragraph E at the end of this notice.

6. Commonwealth Edison Company

[Docket No. ER01-525-000]

Take notice that on November 29, 2000, Commonwealth Edison Company (ComEd) submitted for filing 10 Short-Term Firm Transmission Service Agreements with Constellation Power Source, Inc. (CPS), The Detroit Edison Company (DE), Edison Mission Marketing & Trading, Inc. (EMMT), LG&E Energy Marketing Inc. (LGE), MidAmerican Energy Company (MEC), Northern Indiana Public Service Company (NIPS), Reliant Energy Services, Inc. (RES), Southern Company Energy Marketing L.P. (SCEM), Southern Illinois Power Cooperative (SIPC), and The Energy Authority (TEA), under the terms of ComEd's Open Access Transmission Tariff (OATT). These Agreements have been amended to provide that Transmission Customers must confirm accepted requests for service within the reservation timing requirements established in the Commission's Order No. 638. These Agreements amend and supersede agreements already on file with the Commission.

ComEd requests an effective date of May 30, 2000 for the Agreements, and accordingly, seeks waiver of the Commission's notice requirements.

Comment date: December 20, 2000, in accordance with Standard Paragraph E at the end of this notice.

7. PacifiCorp

[Docket No. ER01-526-000]

Take notice that on November 29, 2000, PacifiCorp tendered for filing in accordance with 18 CFR Part 35 of the Commission's Rules and Regulations, umbrella Transmission Service Agreements with Sacramento Municipal Utility District (SMUD) under PacifiCorp's FERC Electric Tariff, Second Revised Volume No. 11 (Tariff).

Copies of this filing were supplied to the Washington Utilities and Transportation Commission and the Public Utility Commission of Oregon.

Comment date: December 20, 2000, in accordance with Standard Paragraph E at the end of this notice.

8. Ameren Services Company

[Docket No. ER01-527-000]

Take notice that on November 29, 2000, Ameren Services Company (ASC) tendered for filing Service Agreements for Firm Point-to-Point Transmission Service and Non-Firm Point-to-Point Transmission Service between ASC and H.Q. Energy Services (U.S.) Inc. ASC asserts that the purpose of the Agreements is to permit ASC to provide transmission service to H.Q. Energy Services (U.S.) Inc. pursuant to Ameren's Open Access Transmission Tariff.

Comment date: December 20, 2000, in accordance with Standard Paragraph E at the end of this notice.

9. PJM Interconnection, L.L.C.

[Docket No. ER01-528-000]

Take notice that on November 29, 2000, PJM Interconnection, L.L.C. (PJM), submitted for filing an executed interconnection service agreement between PJM and Allegheny Energy Supply Company.

Copies of this filing were served upon Allegheny Energy Supply Company and the state electric utility regulatory commissions within the PJM control area.

Comment date: December 20, 2000, in accordance with Standard Paragraph E at the end of this notice.

10. PJM Interconnection, L.L.C.

[Docket No. ER01-529-000]

Take notice that on November 29, 2000, PJM Interconnection, L.L.C. (PJM), submitted for filing an executed interconnection service agreement between PJM and Southern Company Energy Marketing L.P.

Copies of this filing were served upon Southern Company Energy Marketing L.P. and the state electric utility regulatory commissions within the PJM control area.

Comment date: December 20, 2000, in accordance with Standard Paragraph E at the end of this notice.

11. Entergy Services, Inc.

[Docket No. ER01-530-000]

Take notice that on November 29, 2000, Entergy Services, Inc. (Entergy Services), on behalf of Entergy Arkansas, Inc (Entergy Arkansas), tendered for filing a Long-Term Market Rate Sales Agreement between Entergy Arkansas and City of Benton, Arkansas for the sale of power under Entergy Services' Rate Schedule SP.

Comment date: December 20, 2000, in accordance with Standard Paragraph E at the end of this notice.

12. American Electric Power Service Corporation

[Docket No. ER01-531-000]

Take notice that on November 29, 2000, the American Electric Power Service Corporation (AEPSC) tendered for filing a service agreement with DTE Energy Trading, Inc. by the AEP Companies under the Wholesale Market Tariff of the AEP Operating Companies (Power Sales Tariff). The Power Sales Tariff was accepted for filing effective October 10, 1997 and has been designated AEP Operating Companies' FERC Electric Tariff Original Volume No. 5.

AEPSC respectfully requests waiver of notice to permit this service agreement to be made effective on or prior to November 1, 2000.

A copy of the filing was served upon the Parties and the State Utility Regulatory Commissions of Arkansas, Indiana, Kentucky, Louisiana, Michigan, Ohio, Oklahoma, Tennessee, Texas, Virginia and West Virginia.

Comment date: December 20, 2000, in accordance with Standard Paragraph E at the end of this notice.

13. PJM Interconnection, L.L.C.

[Docket No. ER01-532-000]

Take notice that on November 29, 2000, PJM Interconnection, L.L.C. (PJM), submitted for filing an executed interconnection service agreement between PJM and Mantua Creek Generating Company LP.

Copies of this filing were served upon Mantua Creek Generating Company LP and the state electric utility regulatory commissions within the PJM control area.

Comment date: December 20, 2000, in accordance with Standard Paragraph E at the end of this notice.

14. PJM Interconnection, L.L.C.

[Docket No. ER01-533-000]

Take notice that on November 29, 2000, PJM Interconnection, L.L.C. (PJM), submitted for filing an executed interim interconnection service agreement between PJM and Reliant Energy Hunterstown, LLC.

Copies of this filing were served upon Reliant Energy Hunterstown, LLC and the state electric utility regulatory commissions within the PJM control area.

Comment date: December 20, 2000, in accordance with Standard Paragraph E at the end of this notice.

15. Deseret Generation & Transmission Co-operative, Inc.

[Docket No. ER01-534-000]

Take notice that on November 29, 2000, Deseret Generation & Transmission Co-operative, Inc. (Deseret) tendered for filing an amendment to a long-term Service Agreement between Deseret and Constellation Power Source, Inc., designated Service Agreement No. 5 to FERC Electric Tariff, Original Volume No. 3.

Deseret requests an effective date of September 1, 2000.

Comment date: December 20, 2000, in accordance with Standard Paragraph E at the end of this notice.

16. Northern Maine Independent System Administrator, Inc.

[Docket No. ER01-535-000]

Take notice that on November 29, 2000, Northern Maine Independent System Administrator, Inc., (NMISA) tendered for filing an amendment to its Market Rules, FERC Electric Rate Schedule No. 2.

NMISA requests an effective date of December 1, 2000.

Comment date: December 20, 2000, in accordance with Standard Paragraph E at the end of this notice.

17. Allegheny Energy Service Corporation, on Behalf of Allegheny Energy Supply Company LLC

[Docket No. ER01-536-000]

Take notice that on November 29, 2000, Allegheny Energy Service Corporation on behalf of Allegheny Energy Supply Company, LLC (Allegheny Energy Supply Company) filed First Revised Service Agreement No. 7 to complete the filing requirement for one (1) new Customer of the Market Rate Tariff under which Allegheny Energy Supply offers generation services.

Allegheny Energy Supply maintains the effective date of Service Agreement No. 7 of December 6, 1999 for service to Wabash Valley Power Association, Inc.

Copies of the filing have been provided to the Public Utilities Commission of Ohio, the Pennsylvania Public Utility Commission, the Maryland Public Service Commission, the Virginia State Corporation Commission, the West Virginia Public Service Commission, and all parties of record.

Comment date: December 20, 2000, in accordance with Standard Paragraph E at the end of this notice.

18. Westmoreland—LG&E Partners

[Docket No. ER01-537-000]

Take notice that on November 30, 2000, Westmoreland—LG&E Partners submitted for filing, pursuant to Section 205 of the Federal Power Act, and Part 35 of the Commission's regulations, a Second Amendment and Restatement of the Power Purchase and Operating Agreement which governs power sales to Virginia Electric and Power Company from the Roanoke Valley II facility. Applicant requests certain waivers of the Commission's regulations and a blanket authorization of Federal Power Act Section 204.

Comment date: December 21, 2000, in accordance with Standard Paragraph E at the end of this notice.

19. Central Hudson Gas & Electric Corporation; Consolidated Edison Company of New York, Inc.; Long Island Lighting Company; New York State Electric & Gas Corporation; Niagara Mohawk Power Corporation; Orange and Rockland Utilities, Inc.; Rochester Gas and Electric Corporation

[Docket No. ER01-547-000]

Take notice that on November 27, 2000, the Members of the Transmission Owners Committee of the Energy Association of New York State, formerly known as the Member Systems of the New York Power Pool (Member Systems) tendered for filing revised transmission service agreements. The Member Systems state that these tariff sheets are in compliance with the Commission's October 26, 2000 order in this proceeding. Central Hudson Gas & Electric Corp., et al., 93 FERC ¶ 61,090 (2000).

A copy of this filing was served upon all persons on the official service list in the captioned proceeding.

Comment date: December 18, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-31391 Filed 12-8-00; 8:45 am]

BILLING CODE 6717-01-P